DEPARTMENT OF THE INTERIOR

Office of Surface Mining Reclamation and Enforcement

30 CFR Part 943

[Docket No. TX-052-FOR]

Texas Regulatory Program

AGENCY: Office of Surface Mining Reclamation and Enforcement, Interior.

ACTION: Proposed rule; withdrawal of proposed amendment.

SUMMARY: We, the Office of Surface Mining Reclamation and Enforcement (OSM), are announcing the withdrawal of an amendment to the Texas regulatory program (Texas program) under the Surface Mining Control and Reclamation Act of 1977 (SMCRA or the Act). Texas proposed to add a new policy document to its program that describes mine permit implementation actions that would not, in the opinion of the Railroad Commission of Texas (Commission), be considered permit revisions and as such would not be subject to Commission review and approval. Texas intended to revise its program to improve operational efficiency. Texas is withdrawing the amendment at its own initiative.

DATES: This withdrawal is made on August 31, 2005.

FOR FURTHER INFORMATION CONTACT: Michael C. Wolfrom, Director, Tulsa Field Office. Telephone: (918) 581-6430. E-mail: mwolfrom@osmre.gov.

SUPPLEMENTARY INFORMATION:

I. Background on the Texas Program

II. Submission of the Proposed Amendment

I. Background on the Texas Program

Section 503(a) of the Act permits a State to assume primacy for the regulation of surface coal mining and reclamation operations on non-Federal and non-Indian lands within its borders by demonstrating that its program includes, among other things, “a State law which provides for the regulation of surface coal mining and reclamation operations in accordance with the requirements of this Act * * *; and rules and regulations consistent with regulations issued by the Secretary pursuant to this Act.” See 30 U.S.C. 1253(a)(1) and (7). On the basis of these criteria, the Secretary of the Interior conditionally approved the Texas program effective February 16, 1980. You can find background information on the Texas program, including the Secretary's findings, the disposition of comments, and the conditions of approval of the Texas program in the February 27, 1980, Federal Register (45 FR 12998). You can also find later actions concerning the Texas program and program amendments at 30 CFR 943.10, 943.15 and 943.16.

II. Submission of the Proposed Amendment

By letter dated December 23, 2003 (Administrative Record No. TX-657), Texas sent us an amendment to its program under SMCRA (30 U.S.C. 1201 et seq.). Texas sent the amendment at its own initiative. Texas proposed to add a new policy document to its program that describes mine permit implementation actions that would not, in the opinion of the Commission, be considered permit revisions and as such would not be subject to Commission review and approval. If approved, the implementation of this policy would impact the way current mine permit applications are prepared and how revisions are processed. We announced receipt of the proposed amendment in the February 9, 2004, Federal Register (69 FR 5942). In the same document, we opened the public comment period and provided an opportunity for a public hearing or meeting on the amendments adequacy. We held a public meeting in Mount Pleasant, Texas, on March 11, 2004, and entered a summary of this meeting into the administrative record (Administrative Record No. TX-657.14). The public comment period ended on March 10, 2004. We received comments from one industry group and one private citizen.

During our review of the amendment, we identified concerns regarding incomplete permit renewal applications and the revision of these permits without regulatory authority review and approval. We notified Texas of these concerns by fax dated April 19, 2004, (Administrative Record No. TX-657.15). In a letter dated July 12, 2005, (Administrative Record No. TX-657.17), Texas notified us that it was withdrawing the proposed amendment. Because the proposed amendment is not necessary to make the State's program consistent with SMCRA, we accepted the withdrawal. Therefore, the proposed amendment announced in the February 9, 2004, Federal Register is withdrawn.

List of Subjects in 30 CFR Part 943

Intergovernmental relations, Surface mining, Underground mining.

Dated: August 17, 2005.
Ervin J. Barchenger,
Acting Regional Director, Mid-Continent Region.

[FR Doc. 05-17336 Filed 8-30-05; 8:45 am]

BILLING CODE 4310-05-P